NUCLEAR REGULATORY COMMISSION

[Docket No. 50-263]

Nuclear Management Company, LLC, Monticello Nuclear Generating Plant; Notice of Availability of the Draft Supplement 26 to the Generic Environmental Impact Statement and Public Meeting for the License Renewal of Monticello Nuclear Generating Plant

Notice is hereby given that the U.S. Nuclear Regulatory Commission (NRC or the Commission) has published a draft plant-specific Supplement to the “Generic Environmental Impact Statement (GEIS), NUREG-1437,” regarding the renewal of operating license DPR-22 for an additional 20 years of operation at Monticello Nuclear Generating Plant (Monticello). Monticello is located on the southern bank of the Mississippi River in the City of Monticello, Wright County, Minnesota, approximately 30 miles northwest of Minneapolis, St. Paul, Minnesota. Possible alternatives to the proposed action (license renewal) include no action and reasonable alternative energy sources.

The draft Supplement to the GEIS is publicly available in the NRC's Public Document Room (PDR) located at One White Flint North, 11555 Rockville Pike (first floor), Rockville, Maryland 20852 or from the Publicly Available Records (PARS) component of NRC's Agencywide Documents Access and Management System (ADAMS). ADAMS is accessible from the Public Electronic Reading Room on the NRC's Web site at http://www.nrc.gov/readingrm/adams.html. The ADAMS accession number for draft Supplement 26 to the GEIS is ML060190072. Persons who do not have access to ADAMS, or who encounter problems in accessing the documents located in ADAMS, should contact the PDR reference staff at 1-800-397-4209, 301-415-4737, or by e-mail to pdr@nrc.gov.

In addition, the Monticello Public Library (220 West 6th Street, Monticello, Minnesota 55362) and the Buffalo Public Library (18 Northwest Lake Boulevard, Buffalo, Minnesota 55313) have agreed to make the draft plant-specific supplement to the GEIS available for public inspection.

Interested parties may submit comments on the draft supplement to the GEIS for consideration by the NRC staff. To be certain of consideration, comments on the draft supplement to the GEIS and the proposed action must be received by May 4, 2006. Comments received after the due date will be considered if it is practical to do so, but the NRC staff is able to assure consideration only for comments received on or before this date. Written comments on the draft supplement to the GEIS should be sent to: Chief, Rules and Directives Branch, Division of Administrative Services, Office of Administration, Mailstop T-6D59, U.S. Nuclear Regulatory Commission, Washington, DC 20555-0001.

Comments may be hand-delivered to the NRC at 11545 Rockville Pike, Room T-6D59, Rockville, Maryland, between 7:30 a.m. and 4:15 p.m. on Federal workdays. Electronic comments may be submitted to the NRC by e-mail at MonticelloEIS@nrc.gov. All comments received by the Commission, including those made by Federal, State, and local agencies, Native American Tribes, or other interested persons, will be made available electronically at the Commission's PDR in Rockville, Maryland, and in ADAMS.

The NRC staff will hold two public meetings to present an overview of the draft plant-specific supplement to the GEIS and to accept public comments on the document. The public meetings will be held on March 22, 2006, at the Monticello Community Center, 505 Walnut Street in Monticello, Minnesota. The first meeting will convene at 1:30 p.m. and will continue until 4:30 p.m., as necessary. The second meeting will convene at 7 p.m. and will continue until 10 p.m., as necessary. Both meetings will be transcribed and will include: (1) A presentation of the contents of the draft plant-specific supplement to the GEIS, and (2) the opportunity for interested government agencies, organizations, and individuals to provide comments on the draft report. Additionally, the NRC staff will host informal discussions one hour before the start of each meeting at the Monticello Community Center. No comments on the draft supplement to the GEIS will be accepted during the informal discussions. To be considered, comments must be provided either at the transcribed public meetings or in writing, as discussed below.

Persons may register to attend or present oral comments at the meetings by contacting Ms. Jennifer A. Davis, by telephone at 1-800-368-5642, extension 3835, or by e-mail at MonticelloEIS@nrc.gov no later than March 17, 2006. Members of the public may also register to speak at the meeting within 15 minutes of the start of each session. Individual oral comments may be limited by the time available, depending on the number of persons who register. Members of the public who have not registered may also have an opportunity to speak, if time permits. Ms. Davis will need to be contacted no later than March 17, 2006, if special equipment or accommodations are needed to attend or present information at the public meeting, so that the NRC staff can determine whether the request can be accommodated.

FOR FURTHER INFORMATION CONTACT: Ms. Jennifer A. Davis, Division of License Renewal, Office of Nuclear Reactor Regulation, U.S. Nuclear Regulatory Commission, Washington, DC 20555-0001. Ms. Davis may also be contacted at the aforementioned telephone number or e-mail address.

Dated at Rockville, Maryland, this 23rd day of January, 2006.
For the Nuclear Regulatory Commission.
Pao-Tsin Kuo,
Deputy Director, Division of License Renewal, Office of Nuclear Reactor Regulation.

[FR Doc. E6-1387 Filed 2-1-06; 8:45 am]

BILLING CODE 7590-01-P